DEPARTMENT OF ENERGY

Federal Energy Regulatory Commission

[Docket No. EF01-3041-000, et al.]

Southeastern Power Administration, et al.; Electric Rate and Corporate Regulation Filings

August 2, 2001.

Take notice that the following filings have been made with the Commission:

1. Southeastern Power Administration

[Docket No. EF01-3041-000]

Take notice that on July 30, 2001, the Deputy Secretary of the Department of Energy confirmed and approved Rate Schedules VA-1, VA-2, VA-3, VA-4, CP&L-1, CP&L-2, CP&L-3, CP&L-4, AP-1, AP-2, AP-3, AP-4, and NC-1 for power from Southeastern Power Administration's (Southeastern) Kerr-Philpott System. The approval extends through September 30, 2006.

The Deputy Secretary states that the Commission, by order issued February 13, 1997, in Docket No. EF96-3041-000, confirmed and approved Rate Schedules KP-1-D, JHK-2-B, JHK-3-B, and PH-1-B.

Southeastern proposes in the instant filing to replace these rate schedules.

Comment date: August 23, 2001, in accordance with Standard Paragraph E at the end of this notice.

2. Rock River I, LLC

[Docket No. EG01-271-000]

Take notice that on July 30, 2001, Rock River I, LLC (Rock River), whose sole member is SeaWest WindPower, Inc., located at 1455 Frazee Road, Ninth Floor, San Diego, California 92108, filed with the Federal Energy Regulatory Commission an application for determination of exempt wholesale generator status pursuant to Part 365 of the Commission's regulations.

Rock River will construct, own or lease and operate a wind-powered generating facility with a maximum planned output of 50 MW in Carbon County, Wyoming. The proposed wind power plant is expected to deliver test power to the grid no later than August 30, 2001 and to commence commercial operations by October 2001.

Comment date: August 23, 2001, in accordance with Standard Paragraph E at the end of this notice. The Commission will limit its consideration of comments to those that concern the adequacy or accuracy of the application.

3. Western Systems Power Pool

[Docket No. ER91-195-047]

Take notice that on July 30, 2001, the Western Systems Power Pool (WSPP) filed certain information as required by Ordering Paragraph (D) of the Commission's June 27, 1991 Order (55 FERC ¶61,495) and Ordering Paragraph (C) of the Commission's June 1, 1992 Order On Rehearing Denying Request Not To Submit Information, And Granting In Part And Denying In Part Privileged Treatment. Pursuant to 18 CFR 385.211, WSPP has requested privileged treatment for some of the information filed consistent with the June 1, 1992 order. Copies of WSPP's informational filing are on file with the Commission, and the non-privileged portions are available for public inspection.

Comment date: August 20, 2001, in accordance with Standard Paragraph E at the end of this notice.

4. New York Independent System Operator, Inc.

[Docket Nos. ER00-3591-008 and ER00-1969-009]

Take notice that on July 30, 2001, the New York Independent System Operator, Inc. (NYISO) filed revisions to its Market Administration and Control Area Services Tariff in order to include a description of the circumstances under which it would allocate charges associated with Bid Production Cost Guarantee payments to Long Island customers, pursuant to the Commission's order issued on June 29, 2001 in the above-captioned dockets.

The NYISO has requested an effective date of September 30, 2001 for the filing.

The NYISO has served a copy of this filing upon parties on the official service lists maintained by the Commission for the above-captioned dockets.

Comment date: August 20, 2001, in accordance with Standard Paragraph E at the end of this notice.

5. Southern Indiana Gas & Electric Company

[Docket No. ER01-1938-001]

Take notice that on July 30, 2001, Southern Indiana Gas & Electric Company (SIGECO), tendered for filing revised transmission tariff sheets to its FERC Electric Tariff, Second Revised Volume No. 3 in compliance with the Commission's order issued on June 28, 2001, Southern Indiana Gas & Electric Co., 95 FERC ¶61,462 (2001).

The revisions in this filing will become effective on December 1, 2001.

Copies of the filing were served upon the public utility's jurisdictional customers and with the Indiana Utility Regulatory Commission.

Comment date: August 20, 2001, in accordance with Standard Paragraph E at the end of this notice.

6. New York State Electric & Gas Corporation

[Docket No. ER01-2045-000]

Take notice that on July 30, 2001, New York State Electric & Gas Corporation (NYSEG) submitted a compliance filing with the Federal Energy Regulatory Commission (Commission) pursuant to the Commission's letter order issued on July 13, 2001. NYSEG's compliance filing includes a revised Statement of Policy and Standards of Conduct, corresponding to its FERC Electric Tariff, Original Volume No. 3.

Comment date: August 20, 2001, in accordance with Standard Paragraph E at the end of this notice.

7. NYSEG Solutions, Inc.

[Docket No. ER01-2046-001]

Take notice that on July 30, 2001, NYSEG Solutions, Inc. (NYSEG Solutions) submitted a compliance filing with the Federal Energy Regulatory Commission (Commission) pursuant to the Commission's letter order issued on July 13, 2001. NYSEG Solutions' compliance filing includes a revised Statement of Policy and Standards of Conduct, corresponding to its FERC Electric Tariff, Original Volume No. 2.

Comment date: August 20, 2001, in accordance with Standard Paragraph E at the end of this notice.

8. South Glens Falls Energy, LLC

[Docket No. ER01-2047-001]

Take notice that on July 30, 2001, South Glens Falls Energy, LLC (South Glens Falls) submitted a compliance filing with the Commission pursuant to the Commission's letter order issued on July 13, 2001. South Glens Falls' compliance filing includes a revised Statement of Policy and Standards of Conduct, corresponding to its FERC Electric Tariff, Third Revised Volume No. 1.

Comment date: August 20, 2001, in accordance with Standard Paragraph E at the end of this notice.

9. Energetix, Inc.

[Docket No. ER01-2052-001]

Take notice that on July 30, 2001, Energetix, Inc. (Energetix) submitted a compliance filing with the Federal Energy Regulatory Commission (Commission) pursuant to the Commission's letter order issued on July 13, 2001. Energetix's compliance filing includes a Statement of Policy and Code of Conduct as required in the July 13 Order.

Comment date: August 20, 2001, in accordance with Standard Paragraph E at the end of this notice.

10. Southern California Edison Company

[Docket No. ER01-2402-000]

Take notice that on July 30, 2001, Southern California Edison Company (SCE) filed with the Federal Energy Regulatory Commission (Commission) a Notice of Cancellation, to be effective the 1st day of July 2001, for Service Agreement No. 35 under FERC Electric Tariff Original Volume No. 5.

The filing was served on those parties on the Service List in the above-referenced docket.

Comment date: August 20, 2001, in accordance with Standard Paragraph E at the end of this notice.

11. Southwestern Public Service Company

[Docket No. ER01-2713-000]

Take notice that on July 30, 2001, Southwestern Public Service Company (Southwestern) tendered for filing its proposed non-fuel and non-purchased power operations and maintenance expense savings credit resulting from its merger with Public Service company of Colorado required in its agreement with Lea County Electric Cooperative, Inc. (Lea County) filed in Docket No ER97-3905-000.

Comment date: August 20, 2001, in accordance with Standard Paragraph E at the end of this notice.

12. Southwestern Public Service Company

[Docket No. ER01-2714-000]

Take notice that on July 30, 2001, Southwestern Public Service Company (Southwestern) tendered for filing its proposed non-fuel and non-purchased power operations and maintenance expense savings credit resulting from its merger with Public Service company of Colorado required in its agreement with New Corp Resources, Inc. (New Corp) filed in Docket No ER97-3903-000.

Comment date: August 20, 2001, in accordance with Standard Paragraph E at the end of this notice.

13. Southwestern Public Service Company

[Docket No. ER01-2715-000]

Take notice that on July 30, 2001, Southwestern Public Service Company (Southwestern) tendered for filing its proposed non-fuel and non-purchased power operations and maintenance expense savings credit resulting from its merger with Public Service company of Colorado required in its agreement with Roosevelt Electric Cooperative, Inc. (Roosevelt) filed in Docket No ER97-3902-000.

Comment date: August 20, 2001, in accordance with Standard Paragraph E at the end of this notice.

14. Southwestern Public Service Company

[Docket No. ER01-2716-000]

Take notice that on July 30, 2001, Southwestern Public Service Company (Southwestern) tendered for filing its proposed non-fuel and non-purchased power operations and maintenance expense savings credit resulting from its merger with Public Service company of Colorado required in its agreement with Farmers' Electric Cooperative, Inc. (Farmers) filed in Docket No ER97-3901-000.

Comment date: August 20, 2001, in accordance with Standard Paragraph E at the end of this notice.

15. Southwestern Public Service Company

[Docket No. ER01-2717-000]

Take notice that on July 30, 2001, Southwestern Public Service Company (Southwestern) tendered for filing its proposed non-fuel and non-purchased power operations and maintenance expense savings credit resulting from its merger with Public Service company of Colorado required in its agreement with Lyntegar Electric Cooperative, Inc. (Lyntegar) filed in Docket No ER97-3906-000.

Comment date: August 20, 2001, in accordance with Standard Paragraph E at the end of this notice.

16. American Transmission Company LLC

[Docket No. ER01-2718-000]

Take notice that on July 30, 2001, American Transmission Company LLC (ATCLLC) tendered for filing an executed Generation-Transmission Interconnection Agreement between ATCLLC and Upper Peninsula Power Company.

ATCLLC requests an effective date of June 29, 2001.

Comment date: August 20, 2001, in accordance with Standard Paragraph E at the end of this notice.

17. Southwestern Public Service Company

[Docket No. ER01-2719-000]

Take notice that in July 30, 2001, Southwestern Public Service Company (Southwestern) tendered for filing its proposed non-fuel and non-purchased power operations and maintenance expense savings credit resulting from its merger with Public Service company of Colorado required in its agreement with Central Valley Electric Cooperative, Inc. (Central Valley) filed in Docket No ER97-3904-000.

Comment date: August 20, 2001, in accordance with Standard Paragraph E at the end of this notice.

18. Louisville Gas And Electric Company/Kentucky Utilities Company

[Docket No. ER01-2720-000]

Take notice that on July 30, 2001, Louisville Gas and Electric Company (LG&E)/Kentucky Utilities (KU) (hereinafter Companies) tendered for filing an executed Netting Agreement between the Companies and Wabash Valley Power Association, Inc.

Comment date: August 20, 2001, in accordance with Standard Paragraph E at the end of this notice.

19. Cinergy Services, Inc.

[Docket No. ER01-2721-000]

Take notice that on July 27, 2001, Cinergy Services, Inc. (Cinergy Services), on behalf of PSI Energy, Inc. and The Cincinnati Gas & Electric Company (the Operating Companies) tendered for filing amendments to the Operating Companies' Market-Based Power Sales Tariff—MB, FERC Electric Tariff Original Volume No. 7 (the Tariff) to become effective August 27, 2001.

Copies of this filing were served on wholesale customers under the Tariff and the public service commissions of Indiana, Ohio and Kentucky.

Comment date: August 20, 2001, in accordance with Standard Paragraph E at the end of this notice.

20. Progress Energy, Inc. on behalf of Carolina Power & Light Company

[Docket No. ER01-2722-000]

Take notice that on July 31, 2001, Carolina Power & Light Company (CP&L) tendered for filing Service Agreements for Short-Term Firm and Non-Firm Point-to-Point Transmission Service with Ameren Energy, Inc. Service to this Eligible Customer will be in accordance with the terms and conditions of the Open Access Transmission Tariff filed on behalf of CP&L.

CP&L is requesting an effective date of July 30, 2001 for the Service Agreements.

Copies of the filing were served upon the North Carolina Utilities Commission and the South Carolina Public Service Commission.

Comment date: August 21, 2001, in accordance with Standard Paragraph E at the end of this notice.

21. Progress Energy Inc. on behalf of Carolina Power & Light Company

[Docket No. ER01-2723-000]

Take notice that on July 30, 2001, Carolina Power & Light Company (CP&L) tendered for filing an executed Service Agreement between CP&L and the following eligible buyer, Axia Energy, LP. Service to this eligible buyer will be in accordance with the terms and conditions of CP&L's Market-Based Rates Tariff, FERC Electric Tariff No. 4, for sales of capacity and energy at market-based rates.

CP&L requests an effective date of July 27, 2001 for this Service Agreement.

Copies of the filing were served upon the North Carolina Utilities Commission and the South Carolina Public Service Commission.

Comment date: August 20, 2001, in accordance with Standard Paragraph E at the end of this notice.

22. Avista Corporation, Bonneville Power Administration, Idaho Power Company, Montana Power Company, Nevada Power Company, PacifiCorp, Portland General Electric Company, Puget Sound Energy, Inc., Sierra Pacific Power Company

[Docket No. RT01-35-001]

Take notice that on July 25, 2001, the RTO West Filing Utilities filed a response pursuant to the Federal Energy Regulatory Commission's order issued on July 12, 2001, in the above-referenced proceeding.

Copies of said filing have been served on all parties to this proceeding.

Comment date: August 24, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20002 Filed 8-8-01; 8:45 am]

BILLING CODE 6717-01-P